DEPARTMENT OF THE INTERIOR

National Park Service

National Register of Historic Places; Notification of Pending Nominations and Related Actions

Nominations for the following properties being considered for listing or related actions in the National Register were received by the National Park Service before February 23, 2008. Pursuant to § 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by March 25, 2008.

J. Paul Loether,
Chief, National Register of Historic Places/National Historic Landmarks Program.

IDAHO

Bannock County

Old Town Residential Historic District, Roughly bounded by W. Benton, S. Garfield & W. Lewis Sts., & Portnuef R. Pocatello, 08000249

Latah County

Deesten Farmstead, (Agricultural Properties of Latah County, Idaho) 3611 U.S. 95 S, Moscow, 08000250

Soncarty, Edward and Ida, Barn, (Agricultural Properties of Latah County, Idaho) 1671 Deep Creek Rd., Potlatch, 08000251

Power County

Davie, William, House, (American Falls, Idaho, Relocated Townsite MPS) 703 Hutchinson Ave., American Falls, 08000252

MISSOURI

Cole County

Wallendorf, Joseph and Elizabeth, House, 701 S. Country Club Dr., Jefferson City, 08000253

OREGON

Benton County

Children's Farm Home School, 4455 U.S. 20 NE., Corvallis, 08000254

RHODE ISLAND

Newport County

Stone House Inn, 122 Sakonnet Rd., Little Compton, 08000255

VIRGINIA

James City County

Norge Train Depot, 7770 Croaker Rd., Williamsburg, 08000256

WISCONSIN

Dodge County

Kliese Housebarn, N336 Co. Rd. EM, Emmet, 08000257

Jefferson County

Brandt House, 410 S. 4th St., Watertown, 08000258

[FR Doc. E8-4609 Filed 3-7-08; 8:45 am]

BILLING CODE 4312-51-P